DEPARTMENT OF TRANSPORTATION

National Highway Traffic Safety Administration

[Docket No. NHTSA 2006-26281; Notice 2]

The Braun Corporation; Denial of Petition for Decision of Inconsequential Noncompliance

The Braun Corporation (Braun) has determined that certain wheelchair lifts it produced in 2005 through 2006 do not comply with paragraph S6.1.3 of 49 CFR 571.403, Federal Motor Vehicle Safety Standard (FMVSS) No. 403, Platform Lift Systems for Motor Vehicles. Pursuant to 49 U.S.C. 30118(d) and 30120(h), Braun has petitioned for a determination that this noncompliance is inconsequential to motor vehicle safety and has filed an appropriate report pursuant to 49 CFR Part 573, Defect and Noncompliance Responsibility and Reports. Notice of receipt of a petition was published, with a 30-day public comment period, on December 13, 2006, in the Federal Register (71 FR 74994). The National Highway Traffic Safety Administration (NHTSA) received no comments. To view the petition and all supporting documents, go to: http://dms.dot.gov/search/searchFormSimple.cfm and enter Docket No. NHTSA-2006-26281.

For further information on this decision, contact Ms. Theresa Lacuesta, Office of Vehicle Safety Compliance, NHTSA, telephone (202) 366-2319, facsimile (202) 493-0073.

Affected are a total of approximately 12,940 model NL, NCL, and NVL platform lifts produced by Braun between July 6, 2005 and July 19, 2006. Specifically, paragraph S6.1.3 of FMVSS No. 403 requires:

A visual and audible warning must activate if the platform is more than 25 mm (1 inch ¹) below the platform threshold area and portions of a passenger's body or mobility aid is on the platform threshold area defined in S4 when tested in accordance with S7.4.

¹ S6.1.3 states that the warning must activate if the platform is more than 25 mm below the threshold warning area, but it may activate when the platform is at a lesser dimension (e.g., 20 mm below the platform threshold area).

The threshold warning systems of the noncompliant lifts are unable to detect occupancy throughout the entire platform threshold area defined in paragraph S4. Braun has corrected the problem that caused these errors so that they will not be repeated in future production.

Braun asserts that the noncompliance is inconsequential to motor vehicle safety and that no corrective action is warranted. Braun explains that “the sensitivity of the system used to detect occupancy has been found to be diminished through the center of the threshold area.” Braun also states:

[I]t is virtually impossible for a wheelchair to transit the entire depth of the threshold warning area without triggering the warning. * * * [A] rolling wheelchair cannot conceivably get to an area of attenuated threshold sensitivity without first triggering the warning. In addition, the rolling wheelchair cannot conceivably roll off the outer end of the threshold warning area without again triggering the warning.

NHTSA Decision

NHTSA initially detected this noncompliance. In NHTSA's tests, the wheelchair test device could be positioned in a significant portion of the platform threshold area without Braun's warning system recognizing its presence, i.e., a warning failed to activate under the conditions of paragraph S6.1.3. (The area in which the presence of the test device was not detected is characterized in this notice as a “dead zone” for clarity.)

Braun's petition is based on two incorrect premises, i.e., that only passengers in wheelchairs are protected by the standard, and that the “dead zone” in the threshold area does not present a safety risk.

The wheelchair test device specified in FMVSS No. 403 should not be interpreted as an indication that the threshold warning requirements are only intended to protect passengers in mobility aids fitting that description. The safety standard's Scope section states as follows:

This standard specifies requirements for platform lifts used to assist persons with limited mobility in entering or leaving a vehicle.

More important, the standard itself requires activation of a warning if portions of a passenger's body or mobility aid are on the threshold area (S6.1.3). Therefore, the relevant risks include those to persons whose body part and/or mobility device (e.g., a cane) may move directly to the “dead zone” of the threshold area without touching the perimeter of that area. When NHTSA published the standard at 65 FR 46238, it recognized that all types of mobility aids including all designs of manual and powered wheelchairs, scooters, and other devices are used as seats on motor vehicles. Furthermore, at 67 FR 79421, NHTSA indicated that it believes the threshold warning system should reasonably detect the weight of any occupant in a mobility device as well as unattended standing passengers. The standard specifies that the threshold warning system be tested by placing one front wheel of an unloaded wheelchair test device on any portion (including the center) of the threshold warning area without first transiting the perimeter of the threshold area. This weight of one front wheel is considered to be representative of the minimum force exerted by a wheelchair or half the weight of a small child using the lift unattended. Therefore, this test assures that a warning is provided to all standing passengers, including those who may be aided by canes and walkers, and who step into or are standing in the platform threshold area, as well as, persons seated in wheelchairs, scooters and other mobility aids that roll through the threshold area.

Braun suggests that it is virtually impossible for a wheelchair to transit the entire depth of the platform threshold area without triggering the required warning and supports that premise by stating that a rolling wheelchair cannot conceivably get to an area of attenuated threshold sensitivity without first triggering the warning. Braun indicates that, as a result, the noncompliance presents an inconsequential risk.

However, the standard requires that the alarm be activated when the test device is placed on “any portion” of the threshold area (S7.4.2), and there is good reason for that requirement. NHTSA's tests demonstrated that the warning would only be activated as the unloaded wheelchair test device was at the inside and outside edges of the threshold warning area and would be deactivated when a wheelchair was in the “dead zone.” If a wheelchair was passing through the threshold area, the warning would be activated for only a short period of time and such an intermittent warning could be confusing to a wheelchair user. Also, a passenger's wheelchair may be stopped with its front wheels within the “dead zone” of the threshold. If the wheelchair moves forward, it may be so close to the edge of the vehicle floor that the occupant will be unable to react in time to prevent the wheelchair from continuing off the edge of the vehicle floor. Likewise, for a standing passenger who may be aided by a cane or walker, the “dead zone” of Braun's threshold warning system could cause the warning to be intermittent and also reduce the timeliness of the warning alarm. Consequently, platform lift users may have inadequate time to stop the wheelchair or cease forward movement before reaching the edge of the vehicle floor when the platform lift is greater than 25 mm below the vehicle floor.

In conclusion, NHTSA believes there is an increased risk that users of the subject Braun lifts could fall from a vehicle and be seriously injured due to: (1) The large size of “dead zone” in the platform threshold area and consequent inadequate warning of a significant gap between the vehicle floor and the platform provided by the subject Braun lift; and (2) the short distance between the outside edge of the “dead zone” and the outside edge of the vehicle floor and the resultant short reaction time available to persons with limited mobility moving from a position within the threshold “dead zone.”

In consideration of the foregoing, NHTSA has decided that the petitioner has not met its burden of persuasion that the noncompliance described is inconsequential to motor vehicle safety. Accordingly, Braun's petition is hereby denied, and the petitioner must notify according to 49 U.S.C. 30118 and remedy according to 49 U.S.C. 30120.

Authority: 49 U.S.C. 30118, 30120; delegations of authority at 49 CFR 1.50 and 501.8.

Issued on: August 6, 2007.
Daniel C. Smith,
Associate Administrator for Enforcement.

[FR Doc. E7-15611 Filed 8-9-07; 8:45 am]

BILLING CODE 4910-59-P